DEPARTMENT OF COMMERCE

National Institute of Standards and Technology

International Code Council: The Update Process for the International Codes and Standards

AGENCY: National Institute of Standards and Technology, Commerce.

ACTION: Notice.

SUMMARY: The International Code Council (ICC), promulgator of the International Codes and Standards, maintains a process for updating the entire family of International Codes based on receipt of proposals from interested individuals and organizations involved in the construction industry as well as the general public. The codes are updated every three years (2000—current edition, 2003, 2006 editions, etc.) with an intervening Supplement published every 18 months. There are two hearings for each code development cycle; the first where a committee considers the proposals and recommends an action on each proposal and the second to consider comments submitted in response to the committee action on proposals. The schedule is printed below.

The purpose of this request is to increase public participation in the system used by ICC to develop and maintain its codes and standards. In accordance with responsibilities assigned to NIST by the National Technology Transfer and Advancement Act of 1995, NIST is publishing this notice as a public service in behalf of ICC. NIST does not necessarily endorse, approve, or recommend any of the codes or standards referenced in the notice.

DATES: The date of next code hearings is September 29—October 4, 2002 at the Fort Worth Convention Center, Fort Worth, TX.

Completion of this cycle results in the 2003 edition of the International Codes.

Updates to the schedule are posted on the ICC website at: http://www.intlcode.org.

FOR FURTHER INFORMATION CONTACT: Mike Pfeiffer, PE, Secretary, Code Development, 4051 West Flossmoor Road, Country Club Hills, IL 60478. Telephone: 708/799-2300 Extension 338.

SUPPLEMENTARY INFORMATION:

Background

ICC produces the only family of Codes and Standards that are comprehensive, coordinated and necessary to regulate the built environment. Federal agencies frequently use these codes and standards as the basis for developing Federal regulations concerning new and existing construction.

The Code Development Process is initiated when proposals from interested persons, supported by written data, views, or arguments are solicited and published in the Proposed Changes document. This document is distributed a minimum of 30 days in advance of the first hearing and serves as the agenda.

At the first hearing, the ICC Code Development Committee considers testimony on every proposal and acts on each one individually (Approval, Disapproval, or Approval as Modified). The results are published in a report entitled the Report of the Public Hearing, which identifies the disposition of each proposal and the reason for the committee's action. Anyone wishing to submit a comment on the committee's action, expressing support or opposition to the action, is provided the opportunity to do so. Comments received are published and distributed in a document called the Final Action Agenda which serves as the agenda for the second hearing. Proposals which are approved at the second hearing are incorporated in either the Supplement or Edition, as applicable, with the next cycle starting with the submittal deadline for proposals.

Proponents of proposals automatically receive a copy of all documents (Proposed Changes, Report of the Public Hearing and Final Action Agenda). Interested parties may also request a copy, free of charge, from ICC headquarters at: International Code Council, 5203 Leesburg Pike, Suite 600, Falls Church, VA 22041-3401; or download a copy from the ICC web site at http://www.intlcode.org.

The International Codes and Standards consist of the following:

International Building Code

ICC Electrical Code

International Energy Conservation Code

International Existing Building Code

International Fire Code

International Fuel Gas Code

International Mechanical Code

ICC Performance Code for Buildings and Facilities

International Plumbing Code

International Private Sewage Disposal Code

International Property Maintenance Code

International Residential Code

International Urban-Wildland Interface Code

International Zoning Code

ICC/ANSI A 117.1 Accessible and Usable Buildings and Facilities

ICC Standard on Bleachers, Folding and Telescopic Seating and Grandstands

The maintenance process for ICC Standards such as ICC/ANSI A 117.1 and the ICC Standard on Bleachers, Folding and Telescopic Seating and Grandstands follows a similar process of soliciting proposals, committee action, public comment and ultimately the update and publication of the standard.

Dated: September 16, 2002.
Karen H. Brown,
Deputy Director.

[FR Doc. 02-24002 Filed 9-19-02; 8:45 am]

BILLING CODE 1310-15-P